DEPARTMENT OF HEALTH AND HUMAN SERVICES

Centers for Disease Control and Prevention

[60-Day-13-0212]

Proposed Data Collections Submitted for Public Comment and Recommendations

In compliance with the requirement of Section 3506(c)(2)(A) of the Paperwork Reduction Act of 1995 for opportunity for public comment on proposed data collection projects, the Centers for Disease Control and Prevention (CDC) will publish periodic summaries of proposed projects. To request more information on the proposed projects or to obtain a copy of the data collection plans and instruments, call 404-639-7570 or send comments to Kimberly S. Lane, at 1600 Clifton Road, MS D-74, Atlanta, GA 30333 or send an email to omb@cdc.gov.

Comments are invited on: (a) Whether the proposed collection of information is necessary for the proper performance of the functions of the agency, including whether the information shall have practical utility; (b) the accuracy of the agency's estimate of the burden of the proposed collection of information; (c) ways to enhance the quality, utility, and clarity of the information to be collected; and (d) ways to minimize the burden of the collection of information on respondents, including through the use of automated collection techniques or other forms of information technology. Written comments should be received within 60 days of this notice.

Proposed Project

The National Hospital Care Survey (NHCS)—Revision Exp. 4/30/2014—National Center for Health Statistics (NCHS), Centers for Disease Control and Prevention (CDC).

Background and Brief Description

Section 306 of the Public Health Service (PHS) Act (42 U.S.C. 242k), as amended, authorizes that the Secretary of Health and Human Services (DHHS), acting through NCHS, shall collect statistics on the extent and nature of illness and disability of the population of the United States. This three-year clearance request for the National Hospital Care Survey includes data collection from hospital inpatient departments; hospital ambulatory departments including emergency departments (ED), outpatient departments (OPD), and ambulatory surgery locations (ASLs); and freestanding ambulatory surgery centers (ASCs).

The National Center for Health Statistics' (NCHS) surveys on hospital care include the National Hospital Discharge Survey (NHDS) (OMB No.0920-0212) and the National Hospital Ambulatory Medical Care Survey (NHAMCS) (OMB No. 0920-0234). NHDS, between 1965 and 2010, provided critical information on the utilization of the nation's non-Federal short-stay hospitals and on the nature and treatment of illness among the inpatient hospitalized population. NHAMCS has provided data annually since 1992 concerning the nation's use of hospital emergency and outpatient departments. Beginning in 2009 NHAMCS collected data on hospital based ambulatory surgery locations, and in 2010 began collection of data from free-standing ambulatory surgery centers. NHAMCS data have been extensively used for monitoring changes and analyzing the types of outpatient care provided in the nation's hospitals.

The Drug Abuse Warning Network (DAWN) (OMB No. 0930-0078, expired 12/31/2011) collected specific information on drug-related visits to the ED. DAWN was previously funded by the Center for Behavioral Health Statistics & Quality (CBHSQ) of the Substance Abuse & Mental Health Services Administration (SAMHSA), DHHS.

NCHS is integrating the data collected from NHDS, NHAMCS, and DAWN into one survey called the National Hospital Care Survey (NHCS). This integration will increase the wealth and depth of data on health care utilization and allow for linkages to other data sources such as the National Death Index and data from Centers for Medicare and Medicaid Services (CMS).

Since May 2011, a sample of 500 hospitals drawn for NHCS is being recruited, and participating hospitals are submitting inpatient level data in the form of electronic Uniform Bill (UB-04) administrative claims data as well as facility level data. This activity continues in 2013 in addition to the sampled hospitals being asked to provide data on the utilization of health care provided in their EDs, OPDs and ASLs, thus integrating the NHDS, NHAMCS, and DAWN into NHCS. If funding becomes available, a new sample of freestanding ASCs will be recruited sometime within the 3-year clearance period.

NHCS will replace NHDS, NHAMCS, and DAWN, but continue to provide nationally representative data on utilization of hospital care and general purpose health care statistics on inpatient care as well as care delivered in EDs, OPDs, ASLs, and freestanding ASCs.

Facility-level, patient-level, discharge-level, and visit-level, data items will be collected from the recruited hospitals and freestanding ASCs in NHCS. Facility- level data items will include ownership, number of staffed beds, clinical capabilities, financial information, and electronic health record adoption. Patient-level data items will be collected for both inpatient and ambulatory components and include basic demographic information, personal identifiers, name, address, social security number (if available), and medical record number (if available). For the inpatient component, discharge-level data will be collected through the UB-04 claims and will include: admission and discharge dates, diagnoses, diagnostic services, and surgical and non-surgical procedures. For the ambulatory component, visit-level data will be collected through the UB-04 claims as well as through abstraction of a sample of medical records, which includes reason for visit, diagnosis, procedures, medications, and patient disposition.

We expect that the users of NHCS will be similar to the users of NHDS, NHAMCS, and DAWN data. These users include but are not limited to CDC, Congressional Research Office, Office of the Assistant Secretary for Planning and Evaluation (ASPE), National Institutes of Health, American Health Care Association, Centers for Medicare & Medicaid Services (CMS), Bureau of the Census, Office of National Drug Control Policy, state and local governments, and nonprofit organizations. Other users of these data include universities, research organizations, many in the private sector, foundations, and a variety of users in the print media.

Data collected through NHCS are essential for evaluating health status of the population, for the planning of programs and policy to elevate the health status of the Nation, for studying morbidity trends, and for research activities in the health field. Historically, NHDS and NHAMCS data have been used extensively in the development and monitoring of goals for the Year 2000, 2010, and 2020 Healthy People Objectives.

There is no cost to respondents other than their time to participate.

Estimated Annualized Burden Hours
Respondents | Form | Number of respondents | Number of responses per respondent | Average burden per response (in hours) | Total burden hours
HOSPITAL
Hospital CEO/CFO | Hospital Eligibility Questions | 500 | 1 | 1 | 500
Hospital CEO/CFO | Recruitment Survey Presentation | 167 | 1 | 1 | 167
Hospital CEO/CFO | Annual Hospital Interview (includes inpatient and ambulatory) | 500 | 1 | 2 | 1000
Medical and Health Services Manager | Ambulatory Unit Induction | 2,000 | 1 | 15/60 | 500
Department of Health Information Management (DHIM) or Health Information Technology (DHIT) staff | Prepare and transmit UB-04 (2013-2015) for inpatient and ambulatory | 500 | 4 | 1 | 2,000
Medical Record Clerk | Pulling and re-filing Patient Records (ED, OPD, and ASL) | 1,125 | 100 | 1/60 | 1,875
FREESTANDING AMBULATORY SURGERY CENTERS (FSASC)
FSASC Chief Executive Officer | Annual FSACS Interview | 250 | 1 | 30/60 | 125
FSASC DHIM or DHIT | Prepare and transmit UB-04 (2013-2015) | 250 | 4 | 1 | 1000
FSASC Medical Record Clerk | Pulling and re-filing Patient Records | 125 | 100 | 1/60 | 208
Total |  |  |  |  | 7,375

Dated: October 2, 2012.
Ron A. Otten,
Director, Office of Scientific Integrity (OSI), Office of the Associate Director for Science (OADS), Office of the Director, Centers for Disease Control and Prevention.

[FR Doc. 2012-24761 Filed 10-5-12; 8:45 am]

BILLING CODE 4163-18-P